DEPARTMENT OF JUSTICE

Antitrust Division

Notice Pursuant to the National Cooperative Research and Production Act of 1993—IMS Global Learning Consortium, Inc.

Notice is hereby given that, on February 6, 2012, pursuant to Section 6(a) of the National Cooperative Research and Production Act of 1993, 15 U.S.C. 4301 et seq. (“the Act”), IMS Global Learning Consortium, Inc. has filed written notifications simultaneously with the Attorney General and the Federal Trade Commission disclosing changes in its membership. The notifications were filed for the purpose of extending the Act's provisions limiting the recovery of antitrust plaintiffs to actual damages under specified circumstances. Specifically, Dell Services, Plano, TX; Keller ISD, Keller, TX; Maryland State Department of Education, Baltimore, MD; Measured Progress, Dover, NH; Minnesota Department of Education, Division of Research and Assessment, Roseville, MN; Orange County School District, Orlando, FL; Rhode Island Department of Elementary and Secondary Education Office of Instruction, Assessment, and Curriculum, Providence, RI; State of New Hampshire, Office of Curriculum and Assessment, Concord, NH; and Utah State Office of Education, Salt Lake City, UT, have been added as parties to this venture. Also, Wimba, New York, NY, and Giunti Labs, Atlanta, GA, have withdrawn as parties to this venture.

No other changes have been made in either the membership or planned activity of the group research project. Membership in this group research project remains open, and IMS Global Learning Consortium, Inc. intends to file additional written notifications disclosing all changes in membership.

On April 7, 2000, IMS Global Learning Consortium, Inc. filed its original notification pursuant to Section 6(a) of the Act. The Department of Justice published a notice in the Federal Register pursuant to Section 6(b) of the Act on September 13, 2000 (65 FR 55283).

The last notification was filed with the Department on November 28, 2011. A notice was published in the Federal Register pursuant to Section 6(b) of the Act on December 21, 2011 (76 FR 79217).

Patricia A. Brink,
Director of Civil Enforcement, Antitrust Division.

[FR Doc. 2012-5185 Filed 3-1-12; 8:45 am]

BILLING CODE P